DEPARTMENT OF THE TREASURY

Internal Revenue Service

26 CFR Part 1

[REG-116787-23]

RIN 1545-BR31

Definition of the Term “Coverage Month” for Computing the Premium Tax Credit; Hearing Cancellation

AGENCY: Internal Revenue Service (IRS), Treasury

ACTION: Cancellation of a notice of public hearing on a proposed rulemaking and notice of public hearing.

SUMMARY: This document cancels a public hearing on proposed regulations that would amend the definition of “coverage month” and amend certain other rules in existing income tax regulations regarding the computation of an individual taxpayer's premium tax credit (PTC).

DATES: The public hearing scheduled for December 13, 2024, at 10 a.m. ET is cancelled.

FOR FURTHER INFORMATION CONTACT: Oluwafunmilayo Taylor of the Publications and Regulations Section, Associate Chief Counsel (Procedure and Administration) at (202) 317-6901 (not a toll-free number).

SUPPLEMENTARY INFORMATION: A notice of proposed rulemaking and a notice of public hearing that appeared in the Federal Register on September 17, 2024 (89 FR 75984) announced that a public hearing being held in person and by teleconference was scheduled for December 13, 2024, at 10 a.m. ET. The subject of the public hearing is under 26 CFR part 1.

The public comment period for these regulations expired on November 1, 2024. The notice of proposed rulemaking and notice of public hearing instructed those interested in testifying at the public hearing to submit a request to testify and an outline of the topics to be addressed. We did not receive a request to testify at the Public Hearing. Therefore, the public hearing scheduled for December 13, 2024, at 10 a.m. ET is cancelled.

Oluwafunmilayo A. Taylor,
Section Chief, Publications and Regulations Section, Associate Chief Counsel, (Procedure & Administration).

[FR Doc. 2024-28358 Filed 12-3-24; 8:45 am]

BILLING CODE 4830-01-P